DEPARTMENT OF HEALTH AND HUMAN SERVICES

Administration for Children and Families

Office of Planning, Research and Evaluation; Grant to the Research Foundation of State University of New York

AGENCY: Office of Planning, Research and Evaluation, ACF, DHHS.

ACTION: Award announcement.

SUMMARY: Notice is hereby given that a noncompetitive grant award is being made to the Research Foundation of State University of New York to study state and local family formation and pregnancy prevention efforts relating to Temporary Assistance to Needy Families (TANF) program. The cost of this one-year project is $284,590. The Research Foundation of State University of New York has developed a network of experienced field researchers and has considerable experience in gathering data from local programs. The project's proposed procedures are expected to yield a rich and detailed picture of program implementation at the local level.

FOR FURTHER INFORMATION CONTACT: K.A. Jagannathan, Administration for Children and Families, Office of Planning, Research and Evaluation, 370 L'Enfant Promenade, SW., Washington, DC 20447, Phone: 202-205-4829.

Dated: August 15, 2001.
Howard Rolston,
Director, Office of Planning, Research and Evaluation.

[FR Doc. 01-20987 Filed 8-20-01; 8:45 am]

BILLING CODE 4184-01-M